FEDERAL ACCOUNTING STANDARDS ADVISORY BOARD

Notice of Public Hearing

Board Action: Pursuant to 31 U.S.C. 3511(d), the Federal Advisory Committee Act (Pub. L. No. 92-463), as amended, and the FASAB Rules of Procedure, as amended in October, 1999, notice is hereby given that the Federal Accounting Standards Advisory Board (FASAB) will hold public hearing in conjunction with its March 3-4, 2004 Board Meeting to hear testimony about comments on two recently published exposure drafts (ED)—(1). Heritage Assets and Stewardship Land: Reclassification from Required Supplementary Stewardship Information and (2.) Identifying and Reporting Earmarked funds. The public hearing will also permit the Board to ask questions about information and points of view submitted by respondents. Those interested in testifying should contact Melissa Loughan, Assistant Director, no later than one week prior to the hearing. Ms. Loughan can be reached at 202-512-5976 or via e-mail at loughanm@fasab.gov. Also, they should at the same time provide a short biography and written copies of their testimony. The EDs are available on the FASAB Web site http://www.fasab.gov under Exposure Drafts.

Any interested person may attend the meetings as an observer. Board discussion and reviews are open to the public. GAO Building security requires advance notice of your attendance. Please notify FASAB of your planned attendance by calling 202-512-7350 at least one day prior to the respective meeting.

FOR FURTHER INFORMATION CONTACT: Wendy M. Comes, Executive Director, 441 G St., NW., Mail Stop 6K17V, Washington, DC 20548, or call (202) 512-7350.

Authority: Federal Advisory Committee Act. Pub. L. 92-463.

Dated: January 14, 2004.
Wendy M. Comes,
Executive Director.

[FR Doc. 04-1153 Filed 1-20-04; 8:45 am]

BILLING CODE 1610-01-M